DEPARTMENT OF JUSTICE

Bureau of Alcohol, Tobacco, Firearms and Explosives

[OMB Number 1140-0022]

Agency Information Collection Activities; Proposed eCollection of eComments Requested; Extension Without Change of a Currently Approved Collection Federal Explosives License/Permit (FEL) Renewal Application—ATF Form 5400.14/5400.15, Part III

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995.

DATES: Comments are encouraged and will be accepted for an additional 30 days until November 1, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of information collection: Extension without change of a currently approved collection.

(2) The title of the form/collection: Federal Explosives License/Permit (FEL) Renewal Application.

(3) The agency form number, if any, and the applicable component of the Department sponsoring the collection:

(4) Form number: ATF Form 5400.14/5400.15, Part III.

Component: Bureau of Alcohol, Tobacco, Firearms and Explosives, U.S. Department of Justice.

(5) Affected public who will be asked or required to respond, as well as a brief abstract:

Primary: Business or other for-profit.

Other: Individuals or households.

Abstract: Explosives licensees and permittees must file the Federal Explosives License/Permit (FEL) Renewal Application—ATF Form 5400.14/5400.15, Part III to maintain a valid license or permit, to continue engaging in the explosives material business, and/or transporting or buying explosives material in interstate commerce.

(6) An estimate of the total number of respondents and the amount of time estimated for an average respondent to respond: An estimated 2,500 respondents will use the form annually, and it will take each respondent approximately 20 minutes to complete their responses.

(7) An estimate of the total public burden (in hours) associated with the collection: The estimated annual public burden associated with this collection is 825 hours, which is equal to 2,500 (# of respondents) * .33 (20 minutes).

If additional information is required contact: Melody Braswell, Department Clearance Officer, United States Department of Justice, Justice Management Division, Policy and Planning Staff, Two Constitution Square, 145 N Street NE, Mail Stop 3E.405A, Washington, DC 20530.

Dated: September 24, 2021.
Melody Braswell,
Department Clearance Officer for PRA, U.S. Department of Justice.

[FR Doc. 2021-21217 Filed 9-29-21; 8:45 am]

BILLING CODE 4410-FY-P